DEPARTMENT OF HOUSING AND URBAN DEVELOPMENT

[Docket No. FR-5324-N-04]

Notice of Regulatory Waiver Requests Granted for the Fourth Quarter of Calendar Year 2009

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2009 and ending on December 31, 2009.

FOR FURTHER INFORMATION CONTACT: For general information about this notice, contact Camille E. Acevedo, Associate General Counsel for Legislation and Regulations, Office of General Counsel, Department of Housing and Urban Development, 451 Seventh Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the fourth quarter of calendar year 2009.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337), as revised and updated by the notice issued on December 17, 2008 (73 FR 76674). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2009 through December 31, 2009. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2009) before the next report is published (the first quarter of calendar year 2010), HUD will include any additional waivers granted for the fourth quarter in the next report.

Accordingly, information about approved waiver requests pertaining to HUD regulations is provided in the Appendix that follows this notice.

Dated: March 11, 2010..
Helen R. Kanovsky,
General Counsel.

Appendix

Listing of Waivers of Regulatory Requirements Granted by Offices of the Department of Housing and Urban Development—October 1, 2009 Through December 31, 2009

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: Beyond Housing of St. Louis, MO, advised of using HUD Economic Development Initiative Special Project (EDI-SP) funds to implement the Pagedale Community Development Initiative, the initial phase of which consists of construction of a 17,000 square foot grocery store, related site improvements, and, in early 2010, construction of a 4-story building that will have 10,000 square feet of retail space and 40 units of senior housing. The development site (approximately 2.7 acres) will require demolition of six single-family houses, three businesses and one church. All structures are currently vacant. Subsequent to the March 11, 2009 appropriation containing the EDI-SP, but prior to the release of funds from HUD, Beyond Housing and/or its development partners undertook multiple, legal commitments for acquisition, demolition and leasing.

Nature of Requirement: The regulation in 24 CFR 58.22(a) requires that an environmental review be performed and a Request for Release of Funds be completed and certified prior to the commitment of non-HUD funds to a project using HUD funds.

Granted By: Mercedes M. Marquez, Assistant Secretary for Community Planning and Development.

Date Granted: November 19, 2009.

Reason Waived: The waiver was granted based on the following findings: the above project will further the objective of providing community development; no HUD funds were committed; and based on the environmental assessment and HUD field inspection, granting a waiver will not result in any unmitigated, adverse environmental impact provided that Beyond Housing implements the conditions described in the St. Louis County's Environmental Assessment and the project obtains an approved release of funds.

Contact: Danielle Schopp, Office of Environment and Energy, Office of Community Planning and Development, Department of Housing and Urban Development, 451 Seventh Street, SW., Room 7250, Washington, DC 20410-7000, telephone (202) 402-4442.

• Regulation: 24 CFR 58.22(a).

Project/Activity: Cowlitz Indian Tribe of Longview, WA submitted an application for Indian Community Development Block Grant (ICDBG) funds in June, 2007 to demolish an existing health clinic facility and construct a new health clinic. After submission of the ICDBG application, but prior to release of funds by HUD, the Cowlitz Indian Tribe demolished the existing structure and entered into a construction contract for the new facility.

Nature of Requirement: The regulation in 24 CFR 58.22(a) requires that an environmental review be performed and a Request for Release of Funds be completed and certified prior to the commitment of non-HUD funds to a project using HUD funds.

Granted By: Mercedes M. Marquez, Assistant Secretary for Community Planning and Development.

Date Granted: October 13, 2009.

Reason Waived: The waiver was granted based on the following findings: the above project will further the HUD program goal, specifically the expansion of affordable health care for low-income tribal members; the errors made in the environmental process for the commitment of non-HUD funds were made in good faith and Cowlitz Indian Tribe did not willfully violate the applicable regulations; no HUD funds were committed; and, based on the environmental assessment and the HUD field inspection, granting a waiver will not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 84.32.

Project/Activity: AIDS Alabama in Birmingham, AL sought to sell two properties that were plagued with vandalism. The organization reported that the cost of the repairs would exceed the value of the properties and a more cost effective use of such resources has been identified. The organization reported that disposition proceeds from the sale of the two properties would be retained and used to meet the critical housing needs of HOPWA eligible clients at other project sites.

Nature of Requirement: Section 84.32 of HUD's regulation prescribes requirements for recipients concerning the use and disposition of real property acquired in whole or in part under funding awards. A waiver of 84.32, or more specifically 84.32(c), which specifies HUD's disposition requirements, was required because the nonprofit did not wish to compensate HUD under paragraphs (c)(1) or (c)(2), or to transfer title under paragraph (c)(3). Whenever real property is no longer needed, the disposition requirements of paragraphs (c)(1) through (c)(3) come into play and the sales proceeds from those properties go into a miscellaneous Treasury account. Since AIDS Alabama wanted to retain the sales proceeds to fill a local HIV/AIDS housing need, the funds would not be used to “compensate” HUD within the meaning of 84.32(c).

Granted By: Mercedes Márquez, Assistant Secretary for Community Planning & Development.

Date Granted: October 26, 2009.

Reason Waived: The structures were no longer needed to carry out the objectives of the original HOPWA projects for which they were acquired. Pursuant to this waiver, disposition proceeds from the sale of the two properties are to be retained by the HOPWA service provider, AIDS Alabama, and used to meet the critical housing needs of HOPWA eligible clients in the Alabama Rural AIDS project. This funding is to be reported, utilized and dedicated to the project in a manner consistent with HOPWA program, as defined at 24 CFR 84.24.

Contact: David Vos, Director, Office of HIV/AIDS Housing, Office of Community Planning and Development, Department of Housing and Urban Development, 451 Seventh Street, SW., Room 7276, Washington, DC 20410-7000, telephone (202) 708-1590.

• Regulation: 24 CFR 92.214(a)(6).

Project/Activity: The Kansas Housing Resources Corporation of Topeka, KS requested a waiver to permit it to provide additional HOME funds to rehabilitate three previously assisted projects that fell into physical disrepair due to capacity problems with the nonprofit owner.

Nature of Requirement: The HOME regulations at 24 CFR 92.214(a)(6) prohibit, except for the 12 months following project completion, the provision of additional HOME assistance to projects that were previously assisted with HOME funds during the period of affordability established by the participating jurisdiction.

Granted By: Mercedes M. Márquez, Assistant Secretary for Community Planning and Development.

Date Granted: December 17, 2009.

Reason Waived: HUD approved the waiver request because it determined that the Participating Jurisdiction exercised due diligence in addressing compliance issues and because the additional HOME investment would ensure the long-term viability of the project as affordable housing.

Contact: Ms. Virginia Sardone, Deputy Director, Office of Affordable Housing Programs, Office of Housing, Department of Housing and Urban Development, 451 Seventh Street, SW., Room 7164, Washington, DC 20410-7000, telephone (202) 708-2470.

• Regulation: 24 CFR 92.214(a)(6).

Project/Activity: The City of Cincinnati, OH requested a waiver to invest additional HOME funds in a project previously-assisted with HOME funds and to reduce the period of affordability for the project. The City originally imposed a period of affordability of 31.5 years, of which nearly 22 years remained. The project was undergoing financial restructuring through the Mark-to-Market process. The City proposed investing an additional $1,000,000 of HOME funds to rehabilitate the 651-unit project and impose a new affordability period of 5 years.

Nature of Requirement: The HOME regulations at 24 CFR 92.214(a)(6) prohibits, except for the 12 months following project completion, the provision of additional HOME assistance to projects that were previously assisted with HOME funds during the period of affordability established by the participating jurisdiction.

Granted By: Mercedes Márquez, Assistant Secretary for Community Planning & Development.

Date Granted: November 3, 2009.

Reason Waived: In 1998, the City provided a $1,000,000 HOME rehabilitation loan to Fay Apartments. The written agreement designated 651 HOME-assisted units and imposed a period of affordability of 31.5 years, which exceeded the 5-year minimum required by the HOME regulations. HUD approved the waiver request because it determined that the additional HOME investment would stabilize the HOME-assisted units and ensure the long-term viability of the project as affordable housing. However, HUD did not approve the City's request to reduce the affordability period to 5 years. The City must maintain HOME affordability restrictions on the property for the remainder of the original 31.5-year affordability period.

Contact: Virginia Sardone, Deputy Director, Office of Affordable Housing Programs, Office of Housing, Department of Housing and Urban Development, 451 Seventh Street SW., Room 7158, Washington, DC 20410-7000, telephone 202-708-2470.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the City of Alhambra, California, requested a waiver of the limitation on eligible subgrantees in order to subgrant HPRP funds to the Los Angeles Homeless Services Authority (LAHSA).

Nature of Requirement: Subsections III.B. and III.C. of the HPRP Notice provides that metropolitan cities, urban counties, and territories may distribute all or part of their grant amounts to private non-profit organizations or another local government.

Granted By: Nelson R. Bregon. General Deputy Assistant Secretary for Community Planning and Development.

Date Granted: October 23, 2009.

Reason Waived: The City provided sufficient information for HUD to grant the waiver on the basis of the following:

(1) HPRP participants will be selected in a manner that will ensure LAHSA residents are not unfairly selected over other eligible individuals and families; (2) utilizing LAHSA as a subgrantee will result in an efficient and effective program that benefits HPRP participants; and (3) LAHSA has proven capacity to serve homeless persons.

Contact: Ann M. Oliva, Director, Office of Special Needs Programs, Office of Community Planning and Development, Department of Housing and Urban Development, 451 Seventh Street, SW., Room 7262, Washington, DC 20410-7000, telephone (202) 708-4300.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the City of Huntington Park, California, requested a waiver of the limitation on eligible subgrantees in order to subgrant HPRP funds to the Los Angeles Homeless Services Authority (LAHSA).

Nature of Requirement: Subsections III.B. and III.C. of the HPRP Notice provides that metropolitan cities, urban counties, and territories may distribute all or part of their grant amounts to private non-profit organizations or another local government.

Granted By: Nelson R. Bregon. General Deputy Assistant Secretary for Community Planning and Development.

Date Granted: October 23, 2009.

Reason Waived: The City provided sufficient information for HUD to grant the waiver on the basis of the following:

(1) HPRP participants will be selected in a manner that will ensure LAHSA residents are not unfairly selected over other eligible individuals and families; (2) utilizing LAHSA as a subgrantee will result in an efficient and effective program that benefits HPRP participants; and (3) LAHSA has proven capacity to serve homeless persons.

Contact: Ann M. Oliva, Director, Office of Special Needs Programs, Office of Community Planning and Development, Department of Housing and Urban Development, 451 Seventh Street, SW., Room 7262, Washington, DC 20410-7000, telephone (202) 708-4300.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the Metropolitan Government of Nashville and Davidson County, Tennessee, requested a waiver of the limitation on eligible subgrantees in order to subgrant HPRP funds to a local public housing authority (PHA).

Nature of Requirement: Subsections III.B. and III.C. of the HPRP Notice provides that metropolitan cities, urban counties, and territories may distribute all or part of their grant amounts to private non-profit organizations or another local government.

Granted By: Mercedes Marquez. Assistant Secretary for Community Planning and Development.

Date Granted: October 26, 2009.

Reason Waived: The City provided sufficient information for HUD to grant the waiver on the basis of the following:

(1) HPRP participants will be selected in a manner that will ensure PHA residents are not unfairly selected over other eligible individuals and families; (2) utilizing the PHA as a subgrantee will result in an efficient and effective program that benefits HPRP participants; and (3) the PHA has proven capacity to serve homeless persons.

Contact: Ann M. Oliva, Director, Office of Special Needs Programs, Office of Community Planning and Development, Department of Housing and Urban Development, 451 Seventh Street, SW., Room 7262, Washington, DC 20410-7000, telephone (202) 708-4300.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the City of Newport News, Virginia, requested a waiver of the limitation on eligible subgrantees in order to subgrant HPRP funds to a local public housing authority (PHA).

Nature of Requirement: Subsections III.B. and III.C. of the HPRP Notice provides that metropolitan cities, urban counties, and territories may distribute all or part of their grant amounts to private non-profit organizations or another local government.

Granted By: Mercedes Marquez. Assistant Secretary for Community Planning and Development.

Date Granted: December 7, 2009.

Reason Waived: The City provided sufficient information for HUD to grant the waiver on the basis of the following:

(1) HPRP participants will be selected in a manner that will ensure PHA residents are not unfairly selected over other eligible individuals and families; (2) utilizing the PHA as a subgrantee will result in an efficient and effective program that benefits HPRP participants; and (3) the PHA has proven capacity to serve homeless persons.

Contact: Ann M. Oliva, Director, Office of Special Needs Programs, Office of Community Planning and Development, Department of Housing and Urban Development, 451 Seventh Street, SW., Room 7262, Washington, DC 20410-7000, telephone (202) 708-4300.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the City of Fresno, California, requested a waiver of the limitation on eligible subgrantees in order to subgrant HPRP funds to a local public housing authority (PHA).

Nature of Requirement: Subsections III.B. and III.C. of the HPRP Notice provides that metropolitan cities, urban counties, and territories may distribute all or part of their grant amounts to private non-profit organizations or another local government.

Granted By: Mercedes Marquez. Assistant Secretary for Community Planning and Development.

Date Granted: December 7, 2009.

Reason Waived: The City provided sufficient information for HUD to grant the waiver on the basis of the following:

(1) HPRP participants will be selected in a manner that will ensure PHA residents are not unfairly selected over other eligible individuals and families; (2) utilizing the PHA as a subgrantee will result in an efficient and effective program that benefits HPRP participants; and (3) the PHA has proven capacity to serve homeless persons.

Contact: Ann M. Oliva, Director, Office of Special Needs Programs, Office of Community Planning and Development, Department of Housing and Urban Development, 451 Seventh Street, SW., Room 7262, Washington, DC 20410-7000, telephone (202) 708-4300.

II. Regulatory Waivers Granted by the Office of Housing—Federal Housing Administration (FHA)

For further information about the following regulatory waivers, please see the name of the contact person that immediately follows the description of the waiver granted.

• Regulation: 24 CFR 200.926d(f)(1)(i) and (2)(i).

Project/Activity: This waiver was granted for new construction properties located in the following Boroughs in the State of Alaska; Juneau, Mantanuska-Susitna, Anchorage, Bethel, North Slope (Barrow), Fairbanks (North Star and Southeast), and the Kenai Peninsula that utilize alternative water supply systems, such as Cisterns used in conjunction with hauled/purchased water.

Nature of Requirement: FHA's Minimum Property Standards (MPS) regulations governing new construction for single-family dwellings, found at 24 CFR 200.926d(f)(1)(i) and (2)(i) provide that to be eligible for FHA insurance, each living unit within a newly constructed single-family residential property should be capable of delivering a flow of 5 gallons per minute (gpm) over a 4-hour period in order to provide a continuing and sufficient supply of safe water under adequate pressure and appropriate quality for household use. Under these regulatory requirements water supply systems that utilize water holding tanks, cisterns, and similar alternative devices are not considered acceptable.

Granted By: David H. Stevens, Assistant Secretary for Housing—Federal Housing Commissioner.

Date Granted: November 6, 2009.

Reason Waived: Granting the waiver enabled lenders to provide FHA financing to homebuyers of new construction single family housing in the boroughs Juneau, Mantanuska-Susitna, Anchorage, Bethel, North Slope (Barrow), Fairbanks (North Star and Southeast), and the Kenai Peninsula where it is not feasible to procure water from conventional water supply systems.

Contact: Danny Mendez, Director, Processing and Underwriting Division, Department of Housing and Urban Development, Santa Ana Homeownership Center, 34 Civic Center Plaza, Santa Ana, CA 92701, telephone (714) 796-1200.

• Regulation: 24 CFR 219.220(b).

Project/Activity: Homes of Oakridge (Polk County), Des Moines, Iowa—FHA Project Number 074-44015-SHM-LPA-NP-R-L8. The owner requested to defer repayment of the Flexible Subsidy loans on this project to enable the project to be revitalized.

Nature of Requirement: Section 219.220(b) of HUD's regulations govern the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.

Granted By: David H. Stevens, Assistant Secretary for Housing—Federal Housing Commissioner.

Date Granted: November 10, 2009.

Reason Waived: Granting the waiver allowed the owner to amortize the flexible subsidy debt with a newly financed mortgage. The owner is exempt from the requirement to re-pay the Flexible Subsidy Operating Assistance Loans upon prepayment/refinancing of the Section 236 mortgage loan. The existing Flexible Subsidy loans were recast and are to be repaid over the 30-year term of the new financing from available surplus cash. Granting the waiver allowed the property to be recapitalized, thereby maintaining the preservation of 150 units of affordable housing.”

Contact: Robert G. Iber, Acting Director, Office of Asset Management, Office of Housing, Department of Housing and Urban Development, 451 Seventh Street, SW., Room 6160, Washington, DC 20410-8000, telephone (202) 708-3730.

• Regulation: 24 CFR 219.220(b).

Project/Activity: Halfway Manor Apartments, Hagerstown, Maryland—FHA Project Number 052-44114. The project owner requested deferment of repayment of the Residual Receipts Note in connection with a 236(e)(2) Decoupling proposal. Granting of the waiver would allow recapitalization of the IRP subsidy for rehabilitation of the property.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing—Federal Housing Commissioner.

Date Granted: October 22, 2009.

Reason Waived: Granting the waiver permitted the repayment of the existing Section 236(e)(2) mortgage with a new permanent first mortgage and capitulation of the Interest Reduction Payment subsidy which will provide funds to rehabilitate and service the loan, pay the principal portion of the Residual Receipts note and assume the balance plus accumulated accrued interest. Granting the waiver also allowed the property to continue as a well-maintained source of affordable housing.

Contact: Barbara Chiapella, Acting Director, Office of Asset Management, Office of Housing, Department of Housing and Urban Development, 451 Seventh Street, SW., Room 6160, Washington, DC 20410-8000, telephone (202) 708-3730.

• Regulation: 24 CFR 219.220(b).

Project/Activity: Martin Luther King a.k.a. Marcus Garvey Square Cooperative Apartments, San Francisco, California—FHA Project Number 121-35654. The project owner requested deferment of repayment of Flexible Subsidy loans on this project because the project had not generated sufficient cash flow for immediate repayment of the loan.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing—Federal Housing Commissioner.

Date Granted: December 14, 2009.

Reason Waived: Granting the waiver allowed the owner to prepay the existing mortgage without requiring the balance of the Flexible Subsidy loan to be repaid upon prepayment of the mortgage. Granting of the waiver also allowed the property to be able to obtain financing for improvements and repairs and to remain as a cooperative and as affordable housing for 45 years.

Contact: Robert G. Iber, Acting Director, Office of Asset Management, Office of Housing, Department of Housing and Urban Development, 451 Seventh Street, SW., Room 6160, Washington, DC 20410-8000, telephone (202) 708-3730.

• Regulation: 24 CFR 219.220(b).

Project/Activity: Rich Park Apartments, Raleigh, North Carolina—FHA Project Number 053-35011. The project owner requested deferment of repayment of the Flexible Subsidy loans on this project because the project had not generated sufficient cash flow to pay off the loan when the mortgage matures.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing—Federal Housing Commissioner.

Date Granted: December 2, 2009.

Reason Waived: Granting the waiver allowed the owner to prepay the existing mortgage without requiring the balance of the Flexible Subsidy loan to be repaid upon maturity of the mortgage. Granting the waiver also allowed the property to be able to make improvements and much needed repairs, and subsequently be a well-maintained source of affordable housing in Raleigh, North Carolina.

Contact: Robert G. Iber, Acting Director, Office of Asset Management, Office of Housing, Department of Housing and Urban Development, 451 Seventh Street, SW., Room 6160, Washington, DC 20410-8000, telephone (202) 708-3730.

• Regulation: 24 CFR 219.220(b).

Project/Activity: Birch Run Cooperative, Romulus, Michigan—FHA Project Number 044-55178/79. The project owner requested deferment of repayment of Flexible Subsidy loans on this project because the project had not generated sufficient cash flow for repayment of the loan upon its impending maturity.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing—Federal Housing Commissioner.

Date Granted: October 21, 2009.

Reason Waived: Granting the waiver allowed the owner to prepay the existing mortgage, obtain financing to improve and repair the property and allow the amortization of the Flexible Subsidy loan with the new mortgage. Granting the waiver also allowed the property to remain a well-maintained source of affordable housing for the Romulus, Michigan area.

Contact: Robert G. Iber, Acting Director, Office of Asset Management, Office of Housing, Department of Housing and Urban Development, 451 Seventh Street, SW., Room 6160, Washington, DC 20410-8000, telephone (202) 708-3730.

• Regulation: 24 CFR 219.220(b).

Project/Activity: High Park Terrace Apartments, Newark, New Jersey—FHA Project Number 031-55032. The project owner requested deferment of repayment of Flexible Subsidy loans. The project was unable to meet its obligations as of the date of the request. Waiver of the regulation would avoid foreclosure of the project.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing—Federal Housing Commissioner.

Date Granted: October 21, 2009.

Reason Waived: Granting the waiver of this regulation allowed the owner to prepay the existing mortgage, obtain financing to carry on its current obligations, improve and repair the property and allow the amortization of the Flexible Subsidy loan with the new mortgage. Granting the waiver also allowed the property to remain a well-maintained source of affordable housing for the Newark, New Jersey area.

Contact: Robert G. Iber, Acting Director, Office of Asset Management, Office of Housing, Department of Housing and Urban Development, 451 Seventh Street, SW., Room 6160, Washington, DC 20410-8000, telephone (202) 708-3730.

• Regulation: 24 CFR 219.220(b).

Project/Activity: Des Moines Area Council of Church Homes, Des Moines, Iowa—FHA Project No. 074-35003-LPA-NP-SUP-R. The project owner requested deferment of the repayment of the Flexible Subsidy Operating Assistance loans on this property because the property did not possess resources to repay the loan upon its maturity.

Nature of Requirement: Section 219.220(b) of HUD's regulations governs the repayment of operating assistance provided under the Flexible Subsidy Program for Troubled Projects prior to May 1, 1996, and states: “Assistance that has been paid to a project owner under this subpart must be repaid at the earlier of the expiration of the term of the mortgage, termination of these actions would typically terminate FHA involvement with the property, and the Flexible Subsidy loan would be repaid, in whole, at that time.”

Granted by: David H. Stevens, Assistant Secretary for Housing-Federal Housing Commissioner.

Date Granted: November 10, 2009.

Reason Waived: Granting the waiver permitted the owner to prepay the existing mortgage, sell the project and obtain financing to rehabilitate the property and allow the repayment of the Flexible Subsidy loans over the term of the new mortgage loan. Granting the waiver also allowed the property to continue as a well-maintained source of affordable housing.

Contact: Robert G. Iber, Acting Director, Office of Asset Management, Office of Housing, Department of Housing and Urban Development, 451 Seventh Street, SW., Room 6160, Washington, DC 20410-8000, telephone (202) 708-3730.

• Regulation: 24 CFR 232.3.

Project/Activity: Central Tampa Assisted Living, Tampa, Florida.

Nature of Requirement: HUD's regulations at 24 CFR 232.3 provide that not less than one full bathroom must be provided for every four residents of a board and care home or assisted living facility, and the bathroom access from any bedroom or sleeping area must not pass through a public corridor or area.

Granted By: David H. Stevens, Assistant Secretary for Housing—Federal Housing Commissioner.

Date Granted: December 7, 2009.

Reason Waived: In this project, resident bathing is accomplished utilizing bathing aides and a shower schedule. Due to their dementia diagnosis, residents can be resistive to care, but with the assistance of bathing aides and a regular shower schedule, the facility is able to ensure that residents are receiving the proper care. The shower rooms feature individual private cubicles and are used to bathe residents with assistance of aides on a daily basis. The administrator reported that the number of existing showers is sufficient for residents to bathe, and that it is a top priority to ensure that residents are clean and healthy.

The current design and bathroom layout do not appear to present a marketing concern for the facility. As of the request of the waiver, the facility reported 93.0 percent occupancy as of October 21, 2009, and historical occupancy was consistently been above 90.0 percent.

Contact: Mark Williams, Housing Program Manager, Office of Housing, Department of Housing and Urban Development, 451 Seventh Street, SW., Room 2247, Washington, DC 20410-8000, telephone (202) 402-7168.

• Regulation: 24 CFR 236.2.

Project/Activity: Cokesbury Gardens Apartments, Greenwood, South Carolina—FHA Project Number 054-44037. The owner requested permission to waive the definition of family in the regulation to permit rental of 15 vacant units at the property to a local university.

Nature of Requirement: Section 236.2 of HUD's regulations, as preserved in 1995, governs the leasing of available units to qualified tenants, and states in part: “Family. Two or more persons related by blood, marriage, or operation of law, who occupy the same dwelling unit.” The units will be occupied by unrelated parties.”

Granted by: David H. Stevens, Assistant Secretary for Housing—Federal Housing Commissioner.

Date Granted: December 7, 2009.

Reason Waived: The property was experiencing a high vacancy rate of 28 percent and cash flow problems, with no waiting list. The local university proposed to rent the 15 vacant units at the market rate. Waiver of this regulation allowed the project to rent to students, thereby allowing it to operate successfully and achieve full occupancy. Had the waiver not been granted, the property would have defaulted on its mortgage.

Contact: Edward J. Hinsberger, Acting Director, Office of Asset Management, Office of Housing, Department of Housing and Urban Development, 451 Seventh Street, SW., Room 6160, Washington, DC 20410-8000, telephone (202) 708-3730.

• Regulation: 24 CFR 891.100(d).

Project/Activity: Crossway Tower, Lee, MA, Project Number: 023-EE212/MA06-S071-002.

Nature of Requirement: Section 891.100(d) prohibits amendment of the amount of the approved capital advance funds prior to closing.

Granted by: David H. Stevens, Assistant Secretary for Housing—Federal Housing Commissioner.

Date Granted: October 2, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Lafayette Court, Palantine Bridge, NY, Project Number: 014-EE264/NY06-S061-009.

Nature of Requirement: Section 891.100(d) prohibits amendment of the amount of the approved capital advance funds prior to closing.

Granted by: David H. Stevens, Assistant Secretary for Housing—Federal Housing Commissioner.

Date Granted: October 8, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Room 6134, Washington, DC 20410-8000, telephone (202) 708-3000.

• Regulation: 24 CFR 891.100(d).

Project/Activity: DAHC Housing III, Denton, TX, Project Number: 113-HD036/TX16-Q051-001.

Nature of Requirement: Section 891.100(d) prohibits amendment of the amount of the approved capital advance funds prior to closing.

Granted by: David H. Stevens, Assistant Secretary for Housing—Federal Housing Commissioner.

Date Granted: November 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: North East Manor, Erie, PA, Project Number: 033-EE135/PA28-S081-002.

Nature of Requirement: Section 891.100(d) prohibits amendment of the amount of the approved capital advance funds prior to closing.

Granted by: David H. Stevens, Assistant Secretary for Housing—Federal Housing Commissioner.

Date Granted: November 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mulford Apartments, Rockford, IL, Project Number: 071-HD160/IL06-Q081-002.

Nature of Requirement: Section 891.100(d) prohibits amendment of the amount of the approved capital advance funds prior to closing.

Granted by: David H. Stevens, Assistant Secretary for Housing—Federal Housing Commissioner.

Date Granted: November 25, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: High Street Homes, Elkton, MD, Project Number: 052-HD076/MD06-Q071-002.

Nature of Requirement: Section 891.100(d) prohibits amendment of the amount of the approved capital advance funds prior to closing.

Granted by: David H. Stevens, Assistant Secretary for Housing—Federal Housing Commissioner.

Date Granted: December 16, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Fraser Hopkins Court, Hopkins, MN, Project Number: 092-HD072/MN46-Q081-002.

Nature of Requirement: Section 891.100(d) prohibits amendment of the amount of the approved capital advance funds prior to closing.

Granted by: David H. Stevens, Assistant Secretary for Housing—Federal Housing Commissioner.

Date Granted: December 22, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sheldon Terrace Apartments, New Haven, CT, Project Number: 017-HD040/CT26-Q071-001.

Nature of Requirement: Section 891.100(d) prohibits amendment of the amount of the approved capital advance funds prior to closing.

Granted by: David H. Stevens, Assistant Secretary for Housing—Federal Housing Commissioner.

Date Granted: December 29, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Enola A. Dew Village Apartments, Chicago, IL, Project Number: 071-EE232/IL-S071-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2009.

Reason Waived: The project is economically designed and comparable in cost to similar projects in the area, and the sponsor/owner exhausted all efforts to obtain additional funding from other sources. Additional time was also needed to achieve an initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Oak Village Independence House of Detroit, Detroit, MI, Project Number: 044-HD054/MI28-Q071-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: The project is economically designed and comparable in cost to similar projects in the area, and the sponsor/owner exhausted all efforts to obtain additional funding from other sources. Additional time was also needed to achieve an initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Oak Village Independence House, Detroit, MI, Project Number: 044-HD054/MI28-Q071-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: December 11, 2009.

Reason Waived: The project is economically designed and comparable in cost to similar projects in the area, and the sponsor/owner exhausted all efforts to obtain additional funding from other sources. Additional time was also needed for the sponsor/owner's architect to redesign portions of the project and to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.130(a).

Project/Activity: Destiny Towers, Kansas City, MO, Project Number: 084-EE072/MO16-S071-001.

Nature of Requirement: Section 891.130(a) prohibits Officers and Board members of either the sponsor or the owner from having any financial interest in any contract with the owner or in any firm which has a contract with the owner.

Granted by: David H. Stevens, Assistant Secretary for Housing—Federal Housing Commissioner.

Date Granted: October 1, 2009.

Reason Waived: For the sponsor to sell the site to the owner is no longer considered a prohibited relationship.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Fillmore Haciendas, Phoenix, AZ, Project Number: 123-EE105/AZ20-S071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2009.

Reason Waived: Additional time was needed for the firm commitment to be processed and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Folsom Oaks, Folsom, CA, Project Number: 136-HD017/CA30-Q041-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2009.

Reason Waived: Additional time was needed for HUD to complete its review of the closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Parkside Apartments, Terra Alta, WV, Project Number: 045-EE031/WV15-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 6, 2009.

Reason Waived: Additional time was needed for the sponsor/owner to resolve development issues of the site's plans and specifications.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kaaterskill Manor (aka Jefferson Heights), Catskill, NY, Project Number: 014-EE252/NY06-S051-008.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 19, 2009.

Reason Waived: Additional time was needed for the State review process to be completed and for the project to be initially closed.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Mulberry Manor, Wayne, WV, Project Number: 045-HD041/WV15-Q051-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 19, 2009.

Reason Waived: Additional time was needed for the sponsor/owner to obtain a release of an existing blanket easement over the site and for the project to reach initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Darlington Road Supportive Housing, Pittsburgh, PA,

Project Number: 033-HD104/PA28-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 23, 2009.

Reason Waived: Additional time was needed for the sponsor/owner to resubmit the firm commitment application and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Johnnie B. Moore Towers II, Atlanta, GA, Project Number: 061-EE160/GA06-S061-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: October 23, 2009.

Reason Waived: Additional time was needed for the sponsor/owner to finalize the closing documents and for the project to reach initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Bangor VOANNE Senior Housing, Bangor, ME, Project Number: 024-EE109/ME36-S071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 2, 2009.

Reason Waived: Additional time was needed for the closing documents to be finalized and for the project to be initially closed.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Willow Glen Apartments (aka Newton Falls Apartments), Newton Falls, OH, Project Number: 042-EE223/OH12-S071-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for the sponsor/owner to secure additional funding, submit the firm commitment application and for the project to be initially closed.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Mary Rose Estates, Willoughby, OH, Project Number: 042-EE208/OH12-S061-006.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for a site change to be approved, the firm commitment application to be resubmitted and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Cedar Street Apartments, Redwood City, CA, Project Number: 121-HD090/CA39-Q071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for the sponsor/owner to finalize secondary funding from the California Department of Housing and Community Development (HCD) and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Galloway Housing Project, Galloway Township, NJ, Project Number: 035-HD068/NJ39-Q071-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Sierra Meadows, Visalia, CA, Project Number: 121-EE199/CA39-S071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for the initial closing documents to be reviewed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Parham House, Vista, CA, Project Number: 129-EE031/CA33-Q061-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for the firm commitment to be processed and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kappa House II Apartments, Cleveland, OH, Project Number: 042-EE206/OH12-S061-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for HUD to review the request from the sponsor/owner for a partial release of security for the site and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Querencia Place, Manteca, CA, Project Number: 136-HD022/CA30-Q071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 4, 2009.

Reason Waived: Additional time was needed for a new site to be approved, the firm commitment application to be processed and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Pensacola VOA Living Center, Pensacola, FL, Project Number: 063-HD025/FL29-Q071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 9, 2009.

Reason Waived: Additional time was needed for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: 29th Avenue Apartments, San Francisco, CA, Project Number: 121-HD089/CA39-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 10, 2009.

Reason Waived: Additional time was needed for HUD to review the secondary financing documents and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Townsend Woods, Townsend, MA, Project Number: 023-EE218/MA06-S071-008.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 10, 2009.

Reason Waived: Additional time was needed for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Paseo de Luz Apartments, Oxnard, CA, Project Number: 122-HD168/CA16-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 10, 2009.

Reason Waived: Additional time was needed for the firm commitment application to be submitted and processed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Brunswick Apartments, Brunswick, OH, Project Number: 042-HD152/OH12-Q071-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 16, 2009.

Reason Waived: Additional time was needed for the firm commitment to be issued and for the project to reach an initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Leeway Welton Apartments, New Haven, CT, Project Number: 017-HD041/CT26-Q071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 16, 2009.

Reason Waived: Additional time was needed for an appeal of the zoning by the neighbors to be resolved, for the sponsor/owner to secure secondary funding and for the project to reach an initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Atwood Park Apartments, Gates, NY, Project Number: 014-EE267/NY06-S071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 17, 2009.

Reason Waived: Additional time was needed for HUD to review the closing documents and for the project to be initially closed.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Harrison Street Senior Housing, Oakland, CA, Project Number: 121-EE204/CA39-S071-008.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 18, 2009.

Reason Waived: Additional time was needed for the sponsor/owner to obtain a tax credit investor, secure secondary funding and for the project to achieve an initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Wood Lane Residential, Bowling Green, OH, Project Number: 042-HD151/OH12-Q071-006.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 18, 2009.

Reason Waived: Additional time was needed for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Cardinal's Peak, Cuyahoga Falls, OH, Project Number: 042-HD147/OH12-Q071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 18, 2009.

Reason Waived: Additional time was needed for the project to reach an initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Sheldon Terrace Apartments, New Haven, CT, Project Number: 017-HD040/CT26-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 19, 2009.

Reason Waived: Additional time was needed for the sponsor/owner to secure secondary funding and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Welcome House Apartments, Lakewood, OH, Project Number: 042-HD149/OH12-Q071-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: AHEPA Apartments #63, Tallmadge, OH, Project Number: 042-EE218/OH12-S071-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the firm commitment to be processed and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Roseland Place, Chicago, IL, Project Number: 071-EE236/IL06-S071-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the sponsor/owner to finalize the closing documents and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Villa Serena, Chico, CA, Project Number: 136-HD021/CA30-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for HUD's approval of amendment funds and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Pelican Place Apartments, Wooster, OH, Project Number: 042-HD148/OH12-Q071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the sponsor/owner's architect to redesign the project to reduce costs and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: 1512 Mount Royal, Baltimore, MD, Project Number: 052-HD075/MD06-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the sponsor/owner to obtain their 501(c)(3) tax exemption from the Internal Revenue Service, secure secondary funding, submit the firm commitment application and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hale Oli Group Home, Ewa Beach, HI, Project Number: 140-HD032/HI10-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 24, 2009.

Reason Waived: Additional time was needed for the sponsor/owner to secure secondary funding and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Manor at Maple Esplanade, Harrison, AR, Project Number: 082-EE179/AR37-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: November 25, 2009.

Reason Waived: Additional time was needed for the firm commitment to be processed and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Odd Fellows Senior Housing, Bronx, NY, Project Number: 012-EE351/NY36-S061-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 7, 2009.

Reason Waived: Additional time was needed for the city surveyor to process a tax map amendment for the site and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lil Jackson Senior Community, Oceanside, CA, Project Number: 129-EE032/CA33-S051-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 7, 2009.

Reason Waived: Additional time was needed for the City of Oceanside to record the parcel map for the site and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Port Town Village Phase II, Urbanna, CA, Project Number: 051-EE118/VA36-S071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 7, 2009.

Reason Waived: Additional time was needed for the sponsor/owner to obtain approval of the cost review and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Accessible Space, Incorporated, Mesa, AZ, Project Number: 123-HD041/AZ20-Q061-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 11, 2009.

Reason Waived: Additional time was needed to complete the re-processing of the firm commitment application documents and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Council Towers V, Bronx, NY, Project Number: 012-EE337/NY36-S051-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 14, 2009.

Reason Waived: Additional time was needed for the sponsor/owner to obtain the building permits and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: St. Peter's Senior Housing, Pleasantville, NJ, Project Number: 035-EE053/NJ39-S071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 16, 2009.

Reason Waived: Additional time was needed for the sponsor/owner to obtain an investor for the subject mixed finance project and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Neponset Field, Mattapan, MA, Project Number: 023-EE217/MA06-S071-007.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 16, 2009.

Reason Waived: Additional time was needed for the project to be initially closed.

Contact: Willie Spearmon, Director, Office of Housing Assistance and Grant Administration, Office of Housing, Department of Housing and Urban Development, 451 Seventh Street, SW., Room 9134, Washington, DC 20410-8000, telephone (202) 708-3000.

• Regulation: 24 CFR 891.165.

Project/Activity: St. Johns Commons, Havre de Grace, MD, Project Number: 052-EE058/MD06-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 16, 2009.

Reason Waived: Additional time was needed for the sponsor/owner to obtain approval of zoning for the site and for the project to achieve an initial closing.

Contact: Willie Spearmon, Director, Office of Housing Assistance and Grant Administration, Office of Housing, Department of Housing and Urban Development, 451 Seventh Street, SW, Room 6134, Washington, DC 20410-8000, telephone (202) 708-3000.

• Regulation: 24 CFR 891.165.

Project/Activity: Emerald Rose I Apartments, Burton, OH, Project Number: 042-HD141/OH12-Q061-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 16, 2009.

Reason Waived: Additional time was needed for a site change to be approved, the firm commitment application to be resubmitted and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lafayette Court, Palantine Bridge, NY, Project Number: 014-EE264/NY06-S061-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 22, 2009.

Reason Waived: Additional time was needed to process the firm commitment application and for the project to reach an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Shillman House, Framingham, MA, Project Number: 023-EE187/MA06-S051-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 28, 2009.

Reason Waived: Additional time was needed to issue the firm commitment and for the project to be closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Michaloski House, Carlsbad, CA, Project Number: 129-HD033/CA33-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: December 30, 2009.

Reason Waived: Additional time was needed for the sponsor/owner's attorney and the City's attorney approval of the grant agreement for the site and for the project to achieve an initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165, 24 CFR 891.830(b) and 891.830(c)(4).

Project/Activity: Valley Vista Senior Housing, San Ramon, CA, Project Number: 121-EE201/CA39-S071-005.

Nature of Requirement: Section 891.165 provides that the duration of the fund reservation of the capital advance is 18 months from the date of issuance with limited exceptions up to 24 months, as approved by HUD on a case-by-case basis. Section 891.830(b) requires that capital advance funds be drawn down only in an approved ratio to other funds in accordance with a drawndown schedule approved by HUD. Section 891.830(c)(4) prohibits the capital advance funds from paying off bridge or construction financing, or repaying or collateralizing bonds. Section 891.830(c)(5) requires the amount of the drawdown is consistent with the ratio of 202 or 811 supportive housing units to other units.

Granted by: David H. Stevens, Assistant Secretary for Housing—Federal Housing Commissioner.

Date Granted: November 23, 2009.

Reason Waived: Additional time was needed for the issuance of the firm commitment of the Capital Advance Upon Completion and for the project to be initially/finally closed. In order to not delay the construction of this mixed finance project, other funds were identified to pay for the construction of the project prior to release of any capital advance funds and the capital advance funds would be used to repay that portion of the tax exempt bonds used to incur capital advance eligible expenses.

Contact: Willie Spearmon, Director, Office of Housing Assistance and Grant Administration, Office of Housing, Department of Housing and Urban Development, 451 Seventh Street, SW., Room 6134, Washington, DC 20410-8000, telephone (202) 708-3000.

III. Regulatory Waivers Granted by the Office of Public and Indian Housing

For further information about the following regulatory waivers, please see the name of the contact person that immediately follows the description of the waiver granted.

• Regulation: 24 CFR 5.801(d)(1).

Project/Activity: Dallas Housing Authority, (TX009), Dallas, TX.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: November 13, 2009.

Reason Waived: The HA fourth waiver request advised that the auditor was in the final stages of completing the FY 2007 audit and that audit adjustments were needed to correct inaccurate accounting entries that require many reclassifications and/or prior periods of adjustment. The waiver was granted on the condition that the HA must submit its financial data for FYE December 31, 2007, no later than December 31, 2009. No further audits for FYE December 31, 2007 will be considered. The HA's waiver request for FYE December 31, 2008, audited submission was also approved in accordance with PIH Notice 2009-34 dated September 8, 2009. PIH Notice 2009-34 states that the Department will accept the audited financial information within 12 months of the end of the HA's fiscal year for housing authorities with FYE's June 30, 2008, September 30, 2008, December 31, 2008, and March 31, 2009.

Contact: Wanda Funk, Director, Liaison and Relationship, Real Estate Assessment Center, Office of Public and Indian Housing, Department of Housing and Urban Development, 550 12th Street, SW., Suite 100, Washington, DC 20410-5000, telephone (202) 475-8988.

• Regulation: 24 CFR 5.801(d)(1).

Project/Activity: Housing Authority of the City of New Haven, (CT004), New Haven, CT.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing

Date Granted: December 14, 2009.

Reason Waived: The HA original waiver request dated April 23, 2009, was initially granted on May 21, 2009, with an audited submission due date extension to September 30, 2009, for its September 30 2008, audited financial submission. For the second waiver request, the HA requested an additional 90 days until December 31, 2009, to submit its audited financial information for its FYE September 30, 2008. The HA advised that the auditors completed the compliance work and were scheduled to begin their review of the general ledger on November 16, 2009. The waiver was granted because the additional time permitted the HA to complete the general ledger portion of the audit and finalize the audit report.

Contact: Wanda Funk, Director, Liaison and Relationship, Real Estate Assessment Center, Office of Public and Indian Housing, Department of Housing and Urban Development, 550 12th Street, SW., Suite 100, Washington, DC 20410-5000, telephone (202) 475-8988.

• Regulation: 24 CFR 941.306(b) and (c).

Project/Activity: The Midtown Housing Infill Development, Jackson, MS

Nature of Requirement: HUD's regulations at 24 CFR 942.306(b) requires construction of units to be within the Total Development Costs (TDC) and 24 CFR 941.306(c) limits Housing Construction Costs (HCC).

Granted by: Sandra B. Henriquez, Assistant Secretary for Public and Indian Housing

Date Granted: October 29, 2009.

Reason Waived: Jackson Housing Authority received funds under the American Reinvestment and Recovery Act (ARRA) to complete 22 energy-efficient, sustainable public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.606(n)(1)(ii)(B).

Project/Activity: McKenzie Court, (Grant: AL09URD77I104), Tuscaloosa, AL.

Nature of Requirement: HUD's regulations at 24 CFR 941.606(n)(1)(ii)(B) require that if an owner entity wants to serve as general contractor; it may self-award subject to demonstration to HUD's satisfaction that its bid is the lowest competitive offer.

Granted by: Sandra B. Henriquez, Assistant Secretary for Public and Indian Housing.

Date Granted: December 8, 2009.

Reason Waived: Tuscaloosa Housing Authority submitted independent cost estimate.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.606(n)(1)(ii)(B).

Project/Activity: Gardenview Estates (Grant: MI28URD001I296), Detroit, MI.

Nature of Requirement: HUD's regulations at 24 CFR 941.606(n)(1)(ii)(B) require that if an owner entity wants to serve as general contractor, it may self-award subject to demonstration to HUD's satisfaction that its bid is the lowest competitive offer.

Granted by: Sandra B. Henriquez, Assistant Secretary for Public and Indian Housing.

Date Granted: December 9, 2009.

Reason Waived: Detroit Housing Commission submitted independent cost estimate.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.606(n)(1)(ii)(B).

Project/Activity: Curtis Lane and Alfred Street (Grant: NC19URD009I107), Fayetteville, NC.

Nature of Requirement: HUD's regulations at 24 CFR 941.606(n)(1)(ii)(B) require that if an owner entity wants to serve as general contractor, it may self-award subject to demonstration to HUD's satisfaction that its bid is the lowest competitive offer.

Granted by: Sandra B. Henriquez, Assistant Secretary for Public and Indian Housing.

Date Granted: December 17, 2009.

Reason Waived: Fayetteville Metropolitan Housing Authority submitted independent cost estimate.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Madison Senior Apartments (Grant: PA26URD007I103), New York, NY.

Nature of Requirement: HUD's regulations at 24 CFR 941.610(a)(1)-(a)(7) require HUD review and approval of certain legal documents relating to mixed-finance development before closing.

Granted by: Sandra B. Henriquez, Assistant Secretary for Public and Indian Housing.

Date Granted: October 6, 2009.

Reason Waived: Certifications to the accuracy and authenticity of legal documents was submitted by the Judicial Administrator for Development, Chester Housing Authority to expedite the closing and public housing production.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Baker Village/Arbor Pointe, Columbus, GA.

Nature of Requirement: HUD's regulations 24 CFR 941.610(a)(1)-(a)(7) require HUD review and approval of certain legal documents relating to mixed-finance development before closing.

Granted by: Sandra B. Henriquez, Assistant Secretary for Public and Indian Housing

Date Granted: November 20, 2009.

Reason Waived: Certifications to the accuracy and authenticity of legal documents were submitted by the Housing Authority of Columbus to expedite the closing and public housing production.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 982.505(c)(3).

Project/Activity: Roanoke Redevelopment and Housing Authority (RRHA), Roanoke, VA.

Nature of Requirement: HUD's regulation at 24 CFR 982.505(c)(3) provides that if the amount on the payment standard schedule is decreased during the term of the housing assistance payment (HAP) contract, the lower payment standard amount generally must be used to calculate the monthly HAP for the family beginning at the effective date of the family's second regular reexamination following the effective date of the decrease.

Granted by: Sandra B. Henriquez, Assistant Secretary for Public and Indian Housing.

Date Granted: October 14, 2009.

Reason Waived: This waiver was granted because this cost-saving measure would enable RRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Richmond Redevelopment and Housing Authority (RRHA), Richmond, VA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: October 16, 2009.

Reason Waived: This waiver was granted because this cost-saving measure would enable RRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Berlin Housing Authority (BHA), Berlin, NH.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: October 27, 2009.

Reason Waived: This waiver was granted because this cost-saving measure would enable BHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(4).

Project/Activity: Housing Authority of the County of Monterey (HACM), Monterey, CA.

Nature of Requirement: HUD's regulation at 24 CFR 982.505(c)(4) provides that if the payment standard amount is increased during the term of the housing assistance payments (HAP) contract, the increased payment standard amount shall be used to calculate the monthly HAP for the family beginning at the effective date of the family's first regular reexamination on or after the effective date of the increase in the payment standard amount.

Granted by: Sandra B. Henriquez, Assistant Secretary for Public and Indian Housing.

Date Granted: December 2, 2009.

Reason Waived: This waiver was granted to alleviate rent burden that may have resulted through the implementation of a lower payment standard as a cost-savings measure to avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the Town of Manchester (HATM), Manchester, CT.

Nature of Requirement: HUD's regulation at 24 CFR 982.505(d) provides that a public housing agency may only approve a higher payment standard for a family as a reasonable accommodation if the higher payment standard is within the basic range of 90 to 110 percent of the fair market rent (FMR) for the unit size.

Granted by: Sandra B. Henriquez, Assistant Secretary for Public and Indian Housing.

Date Granted: December 8, 2009.

Waived: The applicant, who is disabled, needed to rent a unit on a first floor with on-site laundry facilities which provide reasonable accommodation. To provide this reasonable accommodation so the client could be assisted in this unit while paying no more than 40 percent of adjusted income toward the family share, the HATM was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 1003.201(e).

Project/Activity: Campo Band of Mission Indians, Campo, California.

Nature of Requirement: Section 1003.201(e) of HUD's regulation states that public services which are directed toward improving a community's public services and facilities may be funded with Indian Community Development Block Grant (ICDBG) funds. However, the amount of ICDBG funds used for public services may not exceed 15 percent of the grant. Such projects must be submitted with one or more other projects which must comprise at least 85 percent of the total requested ICDBG amount.

Granted by: Sandra B. Henriquez, Assistant Secretary for Public and Indian Housing

Date Granted: December 11, 2009.

Reason Waived: The Campo Band of Mission Indians submitted a request for an ICDBG Imminent Threat Grant to address a water contamination issue. Specifically the Campo Band wanted to use the funds to provide bottled water to its members until the water problem was permanently resolved. Pursuant to the ICDBG regulation, bottled water was defined as public service and as such could not exceed 15 percent of the ICDBG grant. The Tribe subsequently submitted a request for a waiver of 24 CFR 1003.201(e). The regulation was waived because the Tribe verified the existence of the imminent threat and obtained funding to permanently resolve the water contamination problem.

Contact: Deborah Lalancette, Director, Office of Grants Management, ONAP, Office of Public and Indian Housing, Department of Housing and Urban Development, 1670 Broadway, 23rd Floor, Denver, CO 80202, telephone (303) 675-1600.

[FR Doc. 2010-5811 Filed 3-16-10; 8:45 am]

BILLING CODE 4210-67-P